DEPARTMENT OF THE INTERIOR

National Park Service

Concession Contract Negotiations; AK

AGENCY: National Park Service, Interior.

ACTION: Public Notice.

SUMMARY: The National Park Service proposes to offer a concession contract authorizing lodging, food and beverage, gifts and merchandise, rental of outdoor recreation equipment, ground transportation and other services for the public at Katmai National Park & Preserve, Alaska from January 1, 2001 through December 31, 2005.

EFFECTIVE DATE: January 16, 2001.

ADDRESSES: National Park Service, Alaska Support Office, Concessions Division, 2525 Gambell St., Room 107, Anchorage, AK, 99503; telephone 907 257-2594, fax 907 264-5679.

SUPPLEMENTARY INFORMATION: This contract is being offered to the incumbent concessioner—Katmailand, Inc. on a sole-source basis in accordance with 36 CFR 13.82(e). The visitor services required and/or authorized by this contract continue to be consistent with the purposes for which Katmai National Park & Preserve was established, as required by 36 CFR 13.82(e).

Dated: November 30, 2000.
Paul Anderson,
Deputy Regional Director, Alaska Region.

[FR Doc. 00-32014 Filed 12-14-00; 8:45 am]

BILLING CODE 4310-70-M